DEPARTMENT OF COMMERCE

National Oceanic and Atmospheric Administration

[Docket No. 000522149-3063-04]

RIN 0648-ZA

Dean John A. Knauss Marine Policy Fellowship, National Sea Grant College Program

AGENCY: Office of Oceanic and Atmospheric Research, National Oceanic and Atmospheric Administration, Commerce.

ACTION: Notice and amendment of FRN 000522149-1259-03.

SUMMARY: This notice announces that applications may be submitted for a Fellowship program which was initiated by the National Sea Grant Office (NSGO), National Oceanic and Atmospheric Administration (NOAA), in fulfilling its broad educational responsibilities and legislative mandate of the Sea Grant Act, to provide educational experience in the policies and processes of the Legislative and Executive Branches of the Federal Government to graduate students in marine and aquatic-related fields. This notice also announces that in the Federal Register notice published on November 14, 2001 (66 FR 57039), the section on “Stipend and Expenses” (p. 57039) is amended to say “In addition, any remaining funds shall be used during the Fellowship year, first to satisfy academic degree-related activities, and second for Fellowship-related activities.” That same provision is included in this notice for the Class of 2004.

DATES: Deadlines vary from program to program, but applications from prospective fellows to Sea Grant Colleges are generally due early to mid-April. Contact your state's Sea Grant program for specific deadlines (see list below). Selected applications from the sponsoring Sea Grant program (one original and two copies) are to be received in the NSGO no later than 5 p.m. e.d.t. on May 14, 2003.

ADDRESSES: Applications should be addressed to your local Sea Grant program. Contact the appropriate state's Sea Grant program from the list below to obtain the mailing address, or the address may be obtained on the Web site http://www.nsgo.seagrant.org/SGDirectors.html.

FOR FURTHER INFORMATION CONTACT: Ms. Nikola Garber, Knauss Fellows Program Manager, National Sea Grant College Program, R/SG, NOAA, 1315 East-West Highway, Silver Spring, MD 20910, Tel. (301) 713-2431 ext. 124; e-mail: nikola.garber@noaa.gov. Also call your nearest Sea Grant program or visit the Web site http://www.nsgo.seagrant.org/Knauss.html.

Sea Grant Programs

Alabama, Mississippi—Alabama Sea Grant Consortium, (228) 818-8843.

Alaska, University of Alaska, (907) 474-6840.

California, University of California, San Diego, (858) 534-4440.

California, University of Southern California, (213) 821-1335.

Connecticut, University of Connecticut, (860) 405-9128.

Delaware, University of Delaware (302) 831-2841.

Florida, University of Florida, (352) 392-5870.

Georgia, University of Georgia, (706) 542-5954.

Hawaii, University of Hawaii, (808) 956-7031.

Illinois, University of Illinois, (217) 333-6444.

Indiana, University of Illinois (217) 333-6444.

Louisiana, Louisiana Sea Grant, (225) 578-6710.

Maine, University of Maine, (207) 581-1422.

Maryland, University of Maryland, (301) 403-4220 Ext. 10.

Massachusetts, Massachusetts Institute of Technology, (617) 253-7131.

Massachusetts, Woods Hole Oceanographic Institution, (508) 289-2557.

Michigan, University of Michigan, (734) 615-4084.

Minnesota, University of Minnesota, (218) 726-8710.

Mississippi, Mississippi—Alabama Sea Grant Consortium, (228) 818-8843.

New Hampshire, University of New Hampshire, (603) 862-0122.

New Jersey, New Jersey Marine Science Consortium, (732) 872-1300 Ext. 21.

New York, New York Sea Grant Institute, SUNY, (631) 632-6905.

North Carolina, North Carolina State University, (919) 515-2454.

Ohio, Ohio State University, (614) 292-8949.

Oregon, Oregon State University, (541) 737-2714.

Pennsylvania, Pennsylvania State University, (814) 898-6160.

Puerto Rico, University of Puerto Rico, (787) 832-3585.

Rhode Island, University of Rhode Island, (401) 874-6802.

South Carolina, South Carolina Sea Grant Consortium, (843) 727-2078.

Texas, Texas A&M University, (979) 845-3854.

Vermont, University of Vermont, (802) 656-0682.

Virginia, Virginia Graduate Marine Science Consortium, (434) 924-5965.

Washington, University of Washington, (206) 543-6600.

Wisconsin, University of Wisconsin-Madison, (608) 262-0905.

SUPPLEMENTARY INFORMATION:

Dean John A. Knauss Marine Policy Fellowship, National Sea Grant College Program

Purpose of the Fellowship Program

In 1979, the National Sea Grant Office, NOAA, in fulfilling its broad educational responsibilities, initiated a program to provide a unique educational experience in the policies and processes of the Legislative and Executive Branches of the Federal Government to graduate students who have an interest in ocean, coastal and Great Lakes resources and in the national policy decisions affecting these resources. The U.S. Congress recognized the value of this program and, in 1987, Public Law 100-220 stipulated the Sea Grant Federal Fellows Program was to be a formal part of the National Sea Grant College Program Act. The recipients are designated Dean John A. Knauss Marine Policy Fellows pursuant to 33 U.S.C. 1127(b). The National Sea Grant program is listed in the Catalog of Federal Domestic Assistance under number 11.417: Sea Grant Support.

Announcement

Following receipt of notice from the NSGO, the local Sea Grant program will send an announcement to all participating Sea Grant institutions and campuses.

Eligibility

Any student who, on April 1, 2003, is in a graduate or professional program in a marine or aquatic-related field at a United States accredited institution of higher education in the United States may apply.

How To Apply

Interested students should discuss this fellowship with their local Sea Grant Program Director. Applicants from states not served by a Sea Grant program should contact the Knauss Fellows Program Manager at the NSGO; subsequently, the applicant will be referred to the appropriate Sea Grant program. Applications must be submitted with signature to the local Sea Grant program by the deadline set in the local Sea Grant announcement (usually early to mid-April). Each Sea Grant program may select and forward to the NSGO no more than five (5) applicants based on the evaluation criteria used by the NSGO in the national competition.

Selected applications (one original and two copies) are to be received in the NSGO from the sponsoring Sea Grant program, no later than 5 p.m. EDT on May 14, 2003. Note that applications arriving after the closing dates given above will be accepted for review only if the applicant can document that the application was provided to a delivery service that guaranteed delivery to the appropriate address (see ADDRESSES) prior to the specified closing date and time; in any event, applications received by the NSGO later than two business days following the closing date will not be accepted. The competitive selection process and subsequent notification to the Sea Grant programs will be completed by June 25, 2003.

Stipend and Expenses

The local Sea Grant program receives and administers the overall grant of $38,000 per student on behalf of each Fellow selected from their program. Of this amount, the local Sea Grant program provides $32,000 to each Follow for stipend and living expenses (per diem). The additional $6,000 will be used to cover mandatory health insurance for the Fellow and moving expenses. In addition, any remaining funds shall be used during the Fellowship year, first to satisfy academic degree-related activities, and second for Fellowship-related activities. Indirect costs are not allowable for either the Fellowships or for any costs associated with the Fellowships, including placement week. No matching funds are required. During the Fellowship, the host may provide supplemental funds for work-related travel by the Fellow.

Application

An application must include:

(1) Personal and academic curriculum vitae (not to exceed two pages using 12 pt. font, 1 inch margins).

(2) A personal education and career goal statement emphasizing the applicant's abilities and the applicant's expectations from the experience in the way of career development (1000 words or less, 12 pt. font). Placement preference in the Legislative or Executive Branches of the Government may be stated; this preference will be honored to the extent possible.

(3) Two letters of recommendation, including one from the student's major professor; if no major professor exists, the faculty person academically knowing the applicant best may be substituted.

(4) A letter of endorsement from the sponsoring Sea Grant Program Director.

(5) Official copy of all undergraduate and graduate student transcripts.

Applications that are bound or contain staples will not be accepted. However, paperclips are acceptable. All applicants will be evaluated solely on their application package according to the criteria listed below. Therefore, letters of endorsement from members of Congress, friends, relatives and others will not be accepted. Prior contacts/arrangements made with possible host offices will be cause for immediate disqualification from the process.

Evaluation Criteria

The evaluation criteria will include:

(1) Quality of the applicant's personal education and career goal statement.

(2) Endorsement/content of the letter from the applicant's Sea Grant Program Director, the applicant's major professor and second letter of recommendation.

(3) Strength of academic performance and diversity of educational background including extracurricular activities, awards and honors (from the curriculum vitae and transcripts).

(4) Experience in marine or aquatic-related fields, oral and written communication skills, and interpersonal abilities. The four evaluation criteria will be given equal weight.

Selection

Each step in the selection process is based on the evaluation criteria listed. A panel is appointed by the Director of the NSGO with input from the Sea Grant Association and the National Sea Grant Review Panel. The panel will include representation from the Sea Grant Association and the current, and possibly past, class of Fellows. Each panel member is assigned applications to review before the panel meeting. During the panel meeting each application will be individually discussed. Following this discussion, an individual score will be provided by each panel member. Once all applications have been discussed and scored, a numerical ranking will be created by the Knauss program manager or designee. The successful applicants will be in general selected based on the numerical ranking, however, the Knauss program manager may select lower ranking applicants based on the following factors: academic discipline and geographic representation. The successful applicants will then be placed into either the legislative or executive group by the Knauss Program Manger based upon the applicant's stated preference, the application materials submitted, and the individual comments of the panel members. The number of fellows assigned to the Congress will be limited to 10.

Federal Policies and Procedures

Fellows receive funds directly from their sponsoring Sea Grant program and are considered to be subrecipients of Federal assistance. Hence, the Department of Commerce Pre-Award Notification Requirements for Grants and Cooperative Agreements contained in the Federal Register notice of October 1, 2000 (66 FR 49917), as amended by the Federal Register notice published on October 30, 2002 (67 FR 66109), are applicable to this solicitation.

Minority Serving Institutions Statement

Pursuant to Executive Orders 12876, 12900, and 13021, DOC/NOAA is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the Nation's capacity to provide high-quality education, and to increase opportunities for MSIs to participate in and benefit from Federal Financial Assistance programs. DOC/NOAA encourages applicants from MSIs to participate. Institutions eligible to be considered HBCU/MSIs are listed at the following Internet Web site: http://www.ed.gov/offices.OCR/minorityinst.html.

Classification

Prior notice and an opportunity for public comment are not required by the Administrative Procedure Act or any other law for this notice concerning grants, benefits, and contracts according to 5 U.S.C. 553(a)(2). Therefore, a regulatory flexibility analysis is not required for purposes of the Regulatory Flexibility Act.

This action has been determined to be not significant for purposes of E.O. 12866. This document contains collection-of-information requirements subject to the Paperwork Reduction Act. Application requirements have been approved by OMB under Control Number 0648-0362. Public reporting burden for an application is estimated to average 2 hours per response, including the time for reviewing instructions, searching existing data sources, gathering and maintaining the data needed, and completing and reviewing the collection of information. Send comments regarding this burden estimate or any other aspect of this collection of information, including suggestions for reducing this burden, to Ms. Nikola Garber (see FOR FURTHER INFORMATION CONTACT above). The use of SF-LLL has been separately approved by OMB under Control Number 0348-0046.

Nothwithstanding any other provision of the law, no person is required to respond to, nor shall any person be subject to a penalty for failure to comply with, a collection of information subject to the requirements of the Paperwork Reduction Act, unless that collection of information displays a currently valid OMB Control Number.

Louisa Koch,
Acting Assistant Administrator, Office of Oceanic and Atmospheric Research

[FR Doc. 03-7251 Filed 3-25-03; 8:45 am]

BILLING CODE 3510-KA-M